DEPARTMENT OF DEFENSE

Office of the Secretary

[Docket ID: DoD-2021-HA-0067]

Submission for OMB Review; Comment Request

AGENCY: The Office of the Assistant Secretary of Defense for Health Affairs (OASD(HA)), Department of Defense (DoD).

ACTION: 30-Day information collection notice.

SUMMARY: The Department of Defense has submitted to OMB for clearance the following proposal for collection of information under the provisions of the Paperwork Reduction Act.

DATES: Consideration will be given to all comments received by February 23, 2022.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Angela Duncan, 571-372-7574, whs.mc-alex.esd.mbx.dd-dod-information-collections@mail.mil.

SUPPLEMENTARY INFORMATION:

Title; Associated Form; and OMB Number: DoD COVID-19 Vaccine Questionnaire; OMB Control Number 0720-0069.

Type of Request: Extension.

Number of Respondents: 570,000.

Responses per Respondent: 1.

Annual Responses: 570,000.

Average Burden per Response: 2 minutes.

Annual Burden Hours: 19,000.

Needs and Uses: The purpose of the DoD COVID-19 Vaccine Questionnaire is as follows: (1) Exercise due-diligence to reach out to the vast majority of our authorized vaccine eligible population (but has not received the COVID-19 vaccine per Military Health System records) with instructions on how to receive the vaccine. (2) Understand existing vaccine demand to adjust. (3) Inform future (i.e., booster) vaccination efforts. (4) Lift an administrative burden from the military treatment facilities by executing a standardized survey at the HQ level. (5) Remind message/questionnaire recipients to have their medical record updated with their vaccination as applicable.

Affected Public: Individuals or households.

Frequency: One time.

Respondent's Obligation: Voluntary.

OMB Desk Officer: Ms. Julie Wise.

You may also submit comments and recommendations, identified by Docket ID number and title, by the following method:

• Federal eRulemaking Portal: https://www.regulations.gov. Follow the instructions for submitting comments.

Instructions: All submissions received must include the agency name, Docket ID number, and title for this Federal Register document. The general policy for comments and other submissions from members of the public is to make these submissions available for public viewing on the internet at https://www.regulations.gov as they are received without change, including any personal identifiers or contact information.

DOD Clearance Officer: Ms. Angela Duncan.

Requests for copies of the information collection proposal should be sent to Ms. Duncan at whs.mc-alex.esd.mbx.dd-dod-information-collections@mail.mil.

Dated: January 19, 2022.
Aaron T. Siegel,
Alternate OSD Federal Register Liaison Officer, Department of Defense.

[FR Doc. 2022-01267 Filed 1-21-22; 8:45 am]

BILLING CODE 5001-06-P